DEPARTMENT OF COMMERCE

National Oceanic and Atmospheric Administration

[RTID 0648-XD710]

Marine Mammals; File Nos. 27408, 27499, and 27503

AGENCY: National Marine Fisheries Service (NMFS), National Oceanic and Atmospheric Administration (NOAA), Commerce.

ACTION: Notice; receipt of application.

SUMMARY: Notice is hereby given that the Alaska Sea Life Center (ASLC), P.O. Box 1329, 301 Railway Avenue, Seward, AK 99664 (Responsible Party: Tara Reimer, Ph.D.); Alaska Fisheries Science Center's Marine Mammal Laboratory (MML), 7600 Sand Point Way NE, Seattle, WA 98115 (Responsible Party: John Bengston); and the Alaska Department of Fish and Game (ADF&G), P.O. Box 25526, Juneau, AK 99802 (Responsible Party: Michael Rehberg), have applied in due form for permits to conduct research on Steller sea lions (Eumetopias jubatus).

DATES: Written comments must be received on or before March 7, 2024.

ADDRESSES: The applications and related documents are available for review by selecting “Records Open for Public Comment” from the “Features” box on the Applications and Permits for Protected Species home page, https://apps.nmfs.noaa.gov, and then selecting the File No. 27408 (ASLC), 27499 (MML), or 27503 (ADF&G) from the list of available applications. These documents are also available upon written request via email to NMFS.Pr1Comments@noaa.gov.

Written comments on this application should be submitted via email to NMFS.Pr1Comments@noaa.gov. Please include the File Nos. in the subject line of the email comment.

Those individuals requesting a public hearing should submit a written request via email to NMFS.Pr1Comments@noaa.gov. The request should set forth the specific reasons why a hearing on this application would be appropriate.

FOR FURTHER INFORMATION CONTACT: Sara Young, Shasta McClenahan, Ph.D., or Jennifer Skidmore at (301) 427-8401.

SUPPLEMENTARY INFORMATION: The subject permits are requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

For File No. 27408: ASLC proposes to conduct research to monitor population vital rates of the endangered western distinct population segment (wDPS) of Steller sea lions and determine what factors most affect vital rates and the potential for population recovery, focusing on population dynamics, health, diet, and behavior. Individuals may be taken in the Gulf of Alaska by the following means: disturbance associated with capture, observational studies, and material/scat/carcass collection; capture, restraint, and sampling; and remote biopsy. Captured sea lions will undergo morphometrics, digital imaging, hot-branding, biological sampling, temporary marking, and ultrasound exams. ASLC requests four unintentional mortalities from the wDPS over the duration of the permit. California sea lions (Zalophus californianus) may be disturbed during the research. See the application for complete numbers of animals requested by species and procedure. The requested duration of this permit is 5 years.

For File No. 27499: MML proposes to conduct research to measure population status, vital rates, foraging ecology, habitat requirements, and effects of natural and anthropogenic factors impacting Steller sea lion populations pursuant to fulfilling the NMFS legal requirements under the MMPA and ESA, and to test hypotheses of mechanisms underlying population trends in Alaska. Proposed activities include surveys (aerial, vessel, and land) including unmanned aircraft systems (UAS), capture and handling, marking, hot branding, sampling (including but not limited to blood, blubber, swabs of all mucus membranes and lesions, skin samples, vibrissae, feces, urine, hair, and nail), tagging, and unintentional disturbance. Animals may be disturbed by surveys, captured, sampled and released for vital rates, foraging ecology and/or health studies multiple times per year. MML requests four unintentional mortalities from the wDPS annually, not to exceed eight over the duration of the permit. Non-target species that may be disturbed unintentionally to these studies include northern fur seals (Callorhinus ursinus), harbor seals (Phoca vitulina), and California sea lions. Collected samples may be exported for analysis. See the application for complete numbers of animals requested by species and procedure. The requested duration of this permit is 5 years.

For File No. 27503: ADF&G proposes to continue their long-term Steller sea lion research program, to investigate recovery trends, collecting survival and reproduction data, investigating movement between and within the populations, and monitoring threats. Proposed activities include: aerial (including UAS), vessel and ground-based surveys including counts, photography, and observations; remote biopsy sampling; captures including morphometrics, marking, external instrument attachment, biological sampling, ultrasound, and hot branding; and collection, import, export, and receipt of pinniped parts. ADF&G requests four unintentional mortalities annually from each the wDPS and eastern DPS, not to exceed eight per DPS over the duration of the permit. Non-target species that may be disturbed during these studies include northern fur seals, and harbor, spotted (Phoca largha), ribbon (Histriophoca fasciata), ringed (Pusa hispida), and bearded (Erignathus barbatus) seals. See the application for complete numbers of animals requested by species and procedure. The requested duration of this permit is 5 years.

In compliance with the National Environmental Policy Act of 1969 (42 U.S.C. 4321 et seq.), an initial determination has been made that the activities proposed are consistent with the Preferred Alternative in the Final Programmatic Environmental Impact Statement for Steller Sea Lion and Northern Fur Seal Research (NMFS 2007) and a supplemental environmental assessment (NMFS 2014) prepared for the addition of unmanned aerial surveys to the suite of Steller sea lion research activities analyzed under the EIS that concluded that issuance of the permits would not have a significant adverse impact on the human environment. An environmental review memo is being prepared to summarize these findings.

Concurrent with the publication of this notice in the Federal Register, NMFS is forwarding copies of the application to the Marine Mammal Commission and its Committee of Scientific Advisors.

Dated: January 31, 2024.
Amy Sloan,
Acting Chief, Permits and Conservation Division, Office of Protected Resources, National Marine Fisheries Service.

[FR Doc. 2024-02278 Filed 2-5-24; 8:45 am]

BILLING CODE 3510-22-P